DEPARTMENT OF ENERGY

Federal Energy Regulatory Commission

[Docket No. IC10-80-000]

Commission Information Collection Activities (FERC Form 80); Comment Request; Extension

April 8, 2010.

AGENCY: Federal Energy Regulatory Commission.

ACTION: Notice of proposed information collection and request for comments.

SUMMARY: In compliance with the requirements of section 3506(c)(2)(A) of the Paperwork Reduction Act of 1995, 44 U.S.C. 3506(c)(2)(A) (2006), (Pub. L. 104-13), the Federal Energy Regulatory Commission (Commission or FERC) is soliciting public comment on the proposed information collection described below.

DATES: Comments in consideration of the collection of information are due 60 days after publication of this Notice in the Federal Register.

ADDRESSES: Comments may be filed either electronically (eFiled) or in paper format, and should refer to Docket No. IC10-80-000. Documents must be prepared in an acceptable filing format and in compliance with Commission submission guidelines at http://www.ferc.gov/help/submission-guide.asp. eFiling instructions are available at: http://www.ferc.gov/docs-filing/efiling.asp. First time users must follow eRegister instructions at: http://www.ferc.gov/docs-filing/eregistration.asp, to establish a user name and password before eFiling. The Commission will send an automatic acknowledgement to the sender's e-mail address upon receipt of eFiled comments. Commenters making an eFiling should not make a paper filing. Commenters that are not able to file electronically must send an original and two (2) paper copies of their comments to: Federal Energy Regulatory Commission, Secretary of the Commission, 888 First Street, NE., Washington, DC 20426.

Users interested in receiving automatic notification of activity in this docket may do so through eSubscription at http://www.ferc.gov/docs-filing/esubscription.asp. In addition, all comments and FERC issuances may be viewed, printed or downloaded remotely through FERC's eLibrary at: http://www.ferc.gov/docs-filing/elibrary.asp, by searching on Docket No. IC10-80. For user assistance, contact FERC Online Support by e-mail at ferconlinesupport@ferc.gov, or by phone, at: (866) 208-3676 (toll-free), or (202) 502-8659 for TTY.

FOR FURTHER INFORMATION CONTACT: Ellen Brown may be reached by telephone at (202) 502-8663, by fax at (202) 273-0873, and by e-mail at DataClearance@FERC.gov.

SUPPLEMENTARY INFORMATION: The information collected on the FERC Form 80 (also known as “FERC-80,” OMB Control No. 1902-0106), “Licensed Hydropower Development Recreation Report,” is used by the Commission to implement the statutory provisions of sections 4(a), 10(a), 301(a), 304 and 309 of the Federal Power Act (FPA), 16 U.S.C. sections 797, 803, 825c & 8254. The authority for the Commission to collect this information comes from section 10(a) of the FPA which requires the Commission to be responsible for ensuring that hydro projects subject to its jurisdiction are consistent with the comprehensive development of the nation's waterway for recreation and other beneficial public uses. In the interest of fulfilling these objectives, the Commission expects licensees subject to its jurisdiction, to recognize the resources that are affected by their activities and to play a role in protecting such resources.

FERC Form 80 is a report on the use and development of recreational facilities at hydropower projects licensed by the Commission. Applications for amendments to licenses and/or changes in land rights frequently involve changes in resources available for recreation. Commission staff utilizes FERC Form 80 data when analyzing the adequacy of existing public recreational facilities and when processing and reviewing possible amendments to help determine the impact of such changes. In addition, the Commission's regional office staff uses the FERC Form 80 data when conducting inspections of licensed projects. The Commission's inspectors use the data in evaluating compliance with various license conditions and in identifying recreational facilities at hydropower projects.

The data required by FERC Form 80 are specified by Title 18 of the Code of Federal Regulations (CFR) under 18 CFR 8.11 and 141.14 (and are discussed at http://www.ferc.gov/docs-filing/forms.asp#80). The FERC Form 80 is collected once every six years. The last collection was due on April 1, 2009, for data compiled during the calendar year ending December 31, 2008. The next collection of the FERC Form 80 is due on April 1, 2015, with subsequent collections due every sixth year, for data compiled during the previous calendar year.

The current OMB clearance expires on 9/30/2010. With the next collection due in 2015, FERC Form 80 will not be collected during the requested upcoming three-year OMB clearance cycle. Because the requirements for Form 80 are contained in the Commission's regulations, FERC plans to submit FERC Form 80 to the Office of Management and Budget (OMB) for review, to ensure the OMB clearance remains continuous and current.

Updates and corrections to the instructions include:

• Reflecting the FERC preference for electronic filing

• Stating that paper filings, if any, should be submitted to FERC's Office of the Secretary ¹ (rather than the FERC Regional Office)

¹ Filings submitted to the FERC's Office of the Secretary (similar to other forms) will be available more quickly to both the public and staff, and the processing costs will be reduced.

• Providing the current contact information for both FERC and OMB

• Indicating the need and timing for initial Form No. 80 filings, in accordance with 18 CFR 8.11(b).

The proposed updates to the general information, instructions, and title of Schedule 1 are attached. The remainder of the form, instructions, and glossary remain unchanged and are not attached.

Action: The Commission is requesting a three-year extension of the FERC-80 reporting requirements, with the indicated updates and corrections to the general and identifying instructions. These updates do not affect the data collected or regulations, which are not being revised.

Burden Statement: For the collection cycle, which occurs every sixth year, the estimated public reporting burden is: (a) 400 respondents, (b) 1 response/respondent, and (c) 3 hours per response, giving a total of 1,200 burden hours. The estimated annual burden figures and costs (provided below and to be submitted to OMB) are averaged over the six-year collection cycle.

FERC-80 | Number of respondents (1) | Average Number of reponses per respondent (2) | Average burden hours per response (3) | Total burden hours (1) × (2) × (3)
Annual, estimates—averaged and spread over the 6-year collection cycle | 400/6 = 66.67 | 1/6 = 0.167 | 3/6 = 0.5 | 1200/6 = 200

The total estimated annual cost burden to respondents (spread over the 6-year collection cycle) is $13,257.11 (200 hours/2080 hours ² per year, times $137,874 ³).

² Number of hours an employee works each year.

³ Estimated average annual cost per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

Kimberly D. Bose,
Secretary.

FERC Form 80, Licensed Hydropower Development Recreation Report

General Information

This form collects data on recreational resources at projects licensed by the Federal Energy Regulatory Commission (Commission) under the Federal Power Act (16 U.S.C. 791a-825r). This form must be submitted by licensees of all projects except those specifically exempted under 18 CFR 8.11 (c).

For regular, periodic filings, submit this form on or before April 1, 2015. Submit subsequent filings of this form on or before April 1, every 6th year thereafter (for example, 2021, 2027, etc.).

For initial Form No. 80 filings (18 CFR 8.11(b)), each licensee of an unconstructed project shall file an initial Form No. 80 after such project has been in operation for a full calendar year prior to the filing deadline. Each licensee of an existing (constructed) project shall file an initial Form No. 80 after such project has been licensed for a full calendar year prior to the filing deadline.

Filing electronically is the preferred manner of filing. (See http://www.ferc.gov for more information.) If you cannot file electronically, submit an original and two copies of the form to the: Federal Energy Regulatory Commission, Office of the Secretary, 888 First St., NE., Washington, DC 20426.

The public burden estimated for this form is three hours per response, including the time for reviewing instructions, searching existing data sources, gathering and maintaining the data needed, and completing the collection of information. Send comments regarding the burden estimate or any aspect of this collection of information, including suggestions for reducing burden, to the:

• Federal Energy Regulatory Commission (FERC), e-mail to DataClearance@FERC.gov; or mail to FERC, 888 First Street NE., Washington, DC 20426 (Attention: Information Clearance Officer), and

• Office of Management and Budget (OMB), e-mail to oira__submission@omb.eop.gov; or mail to OMB, Office of Information and Regulatory Affairs, Attention: Desk Officer for the Federal Energy Regulatory Commission, Washington, DC 20503. Include OMB Control Number 1902-0106 as a point of reference.

No person shall be subject to any penalty for failing to comply with a collection of information if the collection of information does not display a valid control number (44 U.S.C. 3512 (a)).

Instructions

a. All data reported on this form must represent recreational facilities and services located within the development/project boundary.

b. To ensure a common understanding of terms, please refer to the Glossary.

c. Report actual data for each item. If actual data are unavailable, then please estimate.

Schedule 1. General Data

Note: The remainder of the FERC Form 80 (form, instructions, and glossary) are unchanged and are not included here.]

[FR Doc. 2010-8584 Filed 4-14-10; 8:45 am]

BILLING CODE 6717-01-P